DEPARTMENT OF VETERANS AFFAIRS

[OMB Control No. 2900-0772]

Agency Information Collection (Cooperative Studies Program (CSP) Site Survey) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before May 16, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0772 (Cooperative Studies Program (CSP) Site Survey)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0772 (Cooperative Studies Program (CSP) Site Survey)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

SUPPLEMENTARY INFORMATION:

Titles:

1. Cooperative Studies Program (CSP) Site Survey, VA Form 10-10074.

2. CSP Meeting Evaluation, VA Form 10-10074a.

OMB Control Number: 2900-0772.

Type of Review: Revision of a currently approved collection.

Abstracts:

a. The data collected on VA Form 10-10074 will be used to assist in evaluating the level of customer service within the CSP Coordinating Centers.

b. The CSP Meeting Evaluation will be used to gauge the effectiveness of CSP's in-person meetings and ways to improve future meetings.

Affected Public: Individuals or households.

Estimated Annual Burden:

a. Cooperative Studies Program (CSP) Site Survey, VA Form 10-10074—83 hours.

b. Cooperative Studies Program (CSP) Meeting Evaluation, VA Form 10-10074 a—83 hours.

Estimated Average Burden per Respondent:

a. Cooperative Studies Program (CSP) Site Survey, VA Form 10-10074—10 minutes.

b. CSP Meeting Evaluation, VA Form 10-10074 a—10 minutes.

Frequency of Response: Annually.

Estimated Annual Responses:

a. Cooperative Studies Program (CSP) Site Survey, VA Form 10-10074—500.

b. CSP Meeting Evaluation, VA Form 10-10074 a—500.

Dated: April 10, 2014.
By direction of the Secretary.
Crystal Rennie,
VA Clearance Officer, U.S. Department of Veterans Affairs.

[FR Doc. 2014-08549 Filed 4-15-14; 8:45 am]

BILLING CODE 8320-01-P